ENVIRONMENTAL PROTECTION AGENCY

[OPPT-2002-0020; FRL-7181-9]

Endocrine Disruptor Method Validation Subcommittee under the National Advisory Council for Environmental Policy and Technology; Notice of Public Meeting

AGENCY: Environmental Protection Agency (EPA).

ACTION: Notice.

SUMMARY: There will be a meeting, via teleconference, of the Endocrine Disruptor Methods Validation Subcommittee (EDMVS), a subcommittee under the National Advisory Council for Environmental Policy and Technology (NACEPT), a Federal Advisory Committee, on June 11, 2002, to discuss the steroidogenesis detailed review paper. The meeting is open to the public. Due to limited phone lines, we encourage all local participants to join us at RESOLVE. Seating will be on a first-come basis. The EDMVS meeting originally scheduled for June 10-12, 2002, has been postponed. That meeting will be rescheduled for late July.

DATES: The teleconference will be held on June 11, 2002, from 10 a.m. to noon (eastern daylight time). Requests to participate and make public comment in the meeting must be received on or before June 6, 2002.

ADDRESSES: The teleconference will originate at RESOLVE, 1255 23rd St., NW., Suite 275, Washington, DC.

FOR FURTHER INFORMATION CONTACT: Jane Smith, Designated Federal Official, Office of Science Coordination and Policy (7201), Environmental Protection Agency, 1200 Pennsylvania Ave., NW., Washington, DC 20460; telephone number: (202) 564-8476; fax number: (202) 564-8483; e-mail address: smith.jane-scott@epa.gov.

SUPPLEMENTARY INFORMATION:

I. General Information

A. Does this Action Apply to Me?

This action is directed to the public in general. This action may, however, potentially affect you if you produce, manufacture, use, consume, work with, or import pesticide chemical substances that may have an effect cumulative to an effect of a pesticide, or substances found in sources of drinking water. To determine whether you or your business may be affected by this notice you should carefully examine section 408(p) of the Federal Food, Drug, and Cosmetic Act (FFDCA), as amended by the Food Quality Protection Act of 1996 (Public Law 104-170), 21 U.S.C. 346A(p), and amendments to The Safe Drinking Water Act (Public Law 104-182), 42 U.S.C. 300j-17. Since other entities may also be interested, the Agency has not attempted to describe all the specific entities that may be affected by this action. If you have any questions regarding the applicability of this action to a particular entity, consult the person listed under FOR FURTHER INFORMATION CONTACT.

B. How Can I Get Additional Information, Including Copies of the Document and Other Related Documents?

1. Electronically. You may obtain electronic copies of this document, and certain other related documents that might be available electronically, from the EPA Internet Home Page at http://www.epa.gov/. To access this document, on the Home Page search for “Endocrine Disruptor” which will take you to the OSCP Endocrine Disruptor web site. You can also look up the entry for this document under the Federal Register—Environmental Documents. You can also go directly to the Federal Register listings at http://www.epa.gov/fedrgstr/.

A meeting agenda, a list of EDMVS members and information from previous meetings is available electronically, from the EPA Internet Home Page at http://www.epa.gov/scipoly/oscpendo.

2. In person. The Agency has established an official record for this meeting under docket ID number OPPT-2002-0020. The official record consists of the documents specifically referenced in this notice, any public comments received during an applicable comment period, and other information related to Endocrine Disruptor Method Validation, including any information claimed as Confidential Business Information (CBI). The public version of the official record is available for inspection in the TSCA Nonconfidential Information Center, North East Mall, Rm. B-607, Waterside Mall, 401 M St., SW., Washington, DC. The Center is open from noon to 4 p.m., Monday through Friday, excluding legal holidays. The telephone number of the Center is (202) 260-7099.

C. How Can I Request to Participate in this Meeting?

In accordance with the Federal Advisory Committee Act (FACA), the public is encouraged to submit written comments on this detailed review paper. The EDMVS will have a brief period (no more than 15 minutes) available during the teleconference for public comment. It is the policy of the EDMVS to accept written public comments of any length, and to accommodate oral public comments whenever possible. The EDMVS expects that public statements presented at its meetings will be on the meeting topic and not be repetitive of previously submitted oral or written statements.

You may submit a request to participate in the meeting by e-mail, telephone, fax, or in person. We would normally accept requests by mail, but in this time of delays in delivery of government mail due to health and security concerns, we cannot assure your request would arrive in a timely manner. Do not submit any information in your request that is considered CBI. Your request must be received by EPA on or before June 6, 2002. To ensure proper receipt by EPA, it is imperative that you identify docket ID number OPPT-2002-0020 in the subject line on the first page of your request.

1. Electronically. You may submit your request electronically by e-mail to Jane Smith at: smith.jane-scott@epa.gov or to the docket at: oppt.ncic@epa.gov. Do not submit any information electronically that you consider to be CBI. Use WordPerfect 6.1/8.0 or ASCII file format and avoid the use of special characters and any form of encryption. Be sure to identify by docket ID number OPPT-2000-0020. You may also file a request online at many Federal Depository Libraries.

2. By telephone or fax. Contact Jane Smith, by telephone at (202) 564-8476 or by fax number at (202) 564-8483.

3. In person or by courier. You may deliver a request to: OPPT Docket Control Office, North East Mall, Rm. B-607, Waterside Mall, 401 M St., SW., Washington, DC. The Docket Office is open from noon to 4 p.m., Monday through Friday, excluding legal holidays. The telephone number of the Office is (202) 260-7099.

II. Background

In 1996, through enactment of the Food Quality Protection Act, which amended the Federal Food, Drug, and Cosmetic Act, Congress directed EPA to develop a screening program to determine whether certain substances may have hormonal effects in humans. EPA formed a scientific advisory committee, the Endocrine Disruptor Screening and Testing Advisory Committee (EDSTAC), under FACA to advise it on establishing a program to carry out the Congressional directive. EDSTAC recommended a multi-step approach including a series of screens (Tier I Screens), and tests (Tier II Tests), because there were no validated test systems for determining whether a chemical may be an endocrine disruptor. To ensure that EPA has the best and most up-to-date advice available regarding the validation of the screens and tests for the EDSP, EPA recently created the Endocrine Disruptor Methods Validation Subcommittee (EDMVS) of the National Advisory Council for Environmental Policy and Technology (NACEPT). EDMVS, a group of subject-matter experts, provides independent advice and counsel to the Agency through NACEPT, on scientific and technical issues related to validation of the EDSP Tier I screens and Tier II tests, including advice on methods for reducing animal use, refining procedures involving animals to make them less stressful, and replacing animals where scientifically appropriate. More information is available on the website: http://www.epa.gov/scipoly/oscpendo.

List of Subjects

Environmental protection, Endocrine disruptor screening program, Endocrine disruptors.

Dated: May 23, 2002.
Andy Privee,
Acting Director, Office of Science Coordination and Policy.

[FR Doc. 02-13344 Filed 5-24-02; 8:45 am]

BILLING CODE 6560-50-S